DEPARTMENT OF AGRICULTURE

Forest Service

Flathead County Resource Advisory Committee

AGENCY: Forest Service, USDA.

ACTION: Notice of meeting.

SUMMARY: The Flathead County Resource Advisory Committee will meet in Kalispell, Montana June 16th and June 24th. The purpose of the meetings is to discuss potential Title II projects for fiscal year 2004 funded by the Secure Rural Schools and Community Self Determination Act.

DATES: June 16th and June 24th. The meetings will be held from 4 p.m. to 6 p.m.

ADDRESSES: The meeting will be held at the Flathead County Commissioner's Office, Commissioner's Conference Room, 800 South Main, Kalispell, Montana 59901.

FOR FURTHER INFORMATION CONTACT: Kaaren Arnoux, Flathead National Forest, Administrative Assistant, (406) 758-5251.

SUPPLEMENTARY INFORMATION: The meeting is open to the public. Time will be available for public input on potential projects the committee may be discussing.

Allen Rowley,
Acting Public Affairs Specialist.

[FR Doc. 03-13795 Filed 6-2-03; 8:45 am]

BILLING CODE 3410-11-M